DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On November 7, 2022, OFAC determined that the property and interests in property subject to U.S. jurisdiction of the following persons are blocked under the relevant sanctions authority listed below.

Individuals

1. AKBAR, Nufael (a.k.a. AKBAR, Nufail), South Africa; DOB 26 Mar 1972; nationality South Africa; Gender Male; Secondary sanctions risk: section 1(b) of Executive Order 13224, as amended by Executive Order 13886; National ID No. 7203265244080 (South Africa) (individual) [SDGT] (Linked To: ISLAMIC STATE OF IRAQ AND THE LEVANT).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, ISLAMIC STATE OF IRAQ AND THE LEVANT, a person whose property and interests in property are blocked pursuant to E.O. 13224, as amended.

2. AKBAR, Mohamad (a.k.a. AKBAR, Mohamed), 38 Cunningham Rd, Umbilo, Durban, KwaZulu-Natal 4001, South Africa; DOB 15 Jul 1997; nationality South Africa; Gender Male; Secondary sanctions risk: section 1(b) of Executive Order 13224, as amended by Executive Order 13886; Passport A04742654 (South Africa); National ID No. 9707155375083 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224, as amended.

3. AKBAR, Yunus Mohamad (a.k.a. AKBAR, Yunus Muhammad), South Africa; DOB 27 Nov 1978; nationality South Africa; Gender Male; Secondary sanctions risk: section 1(b) of Executive Order 13224, as amended by Executive Order 13886; National ID No. 7811275043084 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224, as amended.

4. AKBAR, Umar (a.k.a. AKBAR, Hamza), 118 Mallinson Rd, Asherville, Durban, KwaZulu-Natal 4001, South Africa; Flat 5, 6 St, Sydenham, Durban, KwaZulu-Natal, South Africa; DOB 06 Sep 1998; nationality South Africa; Gender Male; Secondary sanctions risk: section 1(b) of Executive Order 13224, as amended by Executive Order 13886; Passport A06246615 (South Africa); National ID No. 9809065830080 (South Africa) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224, as amended.

Entities

1. ASHIQ JEWELLERS CC, 115 Russel St, Durban, KwaZulu-Natal 4001, South Africa; Secondary sanctions risk: section 1(b) of Executive Order 13224, as amended by Executive Order 13886; Organization Established Date 03 Aug 2009; Tax ID No. 9176936178 (South Africa); Trade License No. 2009/151008/23 (South Africa); Enterprise Number B2009151008 (South Africa) [SDGT] (Linked To: HOOMER, Farhad).

Designated pursuant to section 1(a)(iii)(A) of E.O. 13224, as amended, for being owned, controlled, or directed by, or to have acted or purported to act for or on behalf of, directly or indirectly, FARHAD HOOMER, a person whose property and interests in property are blocked pursuant to E.O. 13224, as amended.

2. INEOS TRADING PTY LTD, 118 Mallinson Rd, Asherville, Durban, KwaZulu-Natal 4001, South Africa; Secondary sanctions risk: section 1(b) of Executive Order 13224, as amended by Executive Order 13886; Organization Established Date 20 Jun 2016; Tax ID No. 9954121167 (South Africa); Trade License No. 2016/212771/07 (South Africa); Enterprise Number K2016212771 (South Africa) [SDGT] (Linked To: HOOMER, Farhad).

Designated pursuant to section 1(a)(iii)(A) of E.O. 13224, as amended, for being owned, controlled, or directed by, or to have acted or purported to act for or on behalf of, directly or indirectly, FARHAD HOOMER, a person whose property and interests in property are blocked pursuant to E.O. 13224, as amended.

3. SHAAHISTA SHOES CC, 115 Russel St, Durban, KwaZulu-Natal 4001, South Africa; 161 Stamford Hill Rd, Durban, KwaZulu-Natal 4001, South Africa; P.O. Box 19596, Dormerton, Durban, KwaZulu-Natal 4015, South Africa; Secondary sanctions risk: section 1(b) of Executive Order 13224, as amended by Executive Order 13886; Organization Established Date 10 Mar 2004; Tax ID No. 9209696153 (South Africa); Trade License No. 2004/023017/23 (South Africa); Enterprise Number B2004023017 (South Africa) [SDGT] (Linked To: HOOMER, Farhad).

Designated pursuant to section 1(a)(iii)(A) of E.O. 13224, as amended, for being owned, controlled, or directed by, or to have acted or purported to act for or on behalf of, directly or indirectly, FARHAD HOOMER, a person whose property and interests in property are blocked pursuant to E.O. 13224, as amended.

4. SULTAN'S CONSTRUCTION CC, 115 Russel St, Durban, KwaZulu-Natal 4001, South Africa; 118 Mallinson Rd, Asherville, Durban, KwaZulu-Natal 4000, South Africa; P.O. Box 48155, Qualbert, Durban, KwaZulu-Natal 4078, South Africa; Secondary sanctions risk: section 1(b) of Executive Order 13224, as amended by Executive Order 13886; Organization Established Date 30 Nov 2007; Tax ID No. 9124813164 (South Africa); Trade License No. 2007/241953/23 (South Africa); Enterprise Number B2007241953 (South Africa) [SDGT] (Linked To: HOOMER, Farhad).

Designated pursuant to section 1(a)(iii)(A) of E.O. 13224, as amended, for being owned, controlled, or directed by, or to have acted or purported to act for or on behalf of, directly or indirectly, FARHAD HOOMER, a person whose property and interests in property are blocked pursuant to E.O. 13224, as amended.

5. HJ BANNISTER CONSTRUCTION CC, 38 Cunningham Rd, Umbilo, Durban, KwaZulu-Natal 4001, South Africa; Secondary sanctions risk: section 1(b) of Executive Order 13224, as amended by Executive Order 13886; Organization Established Date 20 Jul 1989; Tax ID No. 9126178202 (South Africa); Trade License No. 1989/023376/23 (South Africa); Enterprise Number B1989023376 (South Africa) [SDGT] (Linked To: AKBAR, Nufael; Linked To: AKBAR, Yunus Mohamad).

Designated pursuant to section 1(a)(iii)(A) of E.O. 13224, as amended, for being owned, controlled, or directed by, or to have acted or purported to act for or on behalf of, directly or indirectly, NUFAEL AKBAR and YUNUS MOHAMAD AKBAR, persons whose property and interests in property are blocked pursuant to E.O. 13224, as amended.

6. MA GOLD TRADERS PTY LTD, 38 Cunningham Rd, Umbilo, Durban, KwaZulu-Natal 4000, South Africa; P.O. Box 27, Westwood, KwaZulu-Natal 3633, South Africa; Secondary sanctions risk: section 1(b) of Executive Order 13224, as amended by Executive Order 13886; Organization Established Date 22 Jan 2019; Tax ID No. 9263261233 (South Africa); Trade License No. 2019/032950/07 (South Africa); Enterprise Number K2019032950 (South Africa) [SDGT] (Linked To: AKBAR, Nufael).

Designated pursuant to section 1(a)(iii)(A) of E.O. 13224, as amended, for being owned, controlled, or directed by, or to have acted or purported to act for or on behalf of, directly or indirectly, NUFAEL AKBAR, a person whose property and interests in property are blocked pursuant to E.O. 13224, as amended.

7. BAILEY HOLDINGS PTY LTD, 38 Cunningham Rd, Durban, KwaZulu-Natal 4001, South Africa; P.O. Box 14544, Pretoria, Johannesburg, Gauteng 0037, South Africa; Secondary sanctions risk: section 1(b) of Executive Order 13224, as amended by Executive Order 13886; Organization Established Date 20 Mar 2018; Tax ID No. 9141736232 (South Africa); Trade License No. 2018/215018/07 (South Africa) [SDGT] (Linked To: AKBAR, Yunus Mohamad).

Designated pursuant to section 1(a)(iii)(A) of E.O. 13224, as amended, for being owned, controlled, or directed by, or to have acted or purported to act for or on behalf of, directly or indirectly, YUNUS MOHAMAD AKBAR, a person whose property and interests in property are blocked pursuant to E.O. 13224, as amended.

8. FLEXOSEAL WATERPROOFING SOLUTIONS PTY LTD, 11 Walter Place, Durban, KwaZulu-Natal 4000, South Africa; Secondary sanctions risk: section 1(b) of Executive Order 13224, as amended by Executive Order 13886; Organization Established Date 16 Mar 2021; Tax ID No. 9118725259 (South Africa); Trade License No. 2021/480544/07 (South Africa) [SDGT] (Linked To: AKBAR, Yunus Mohamad).

Designated pursuant to section 1(a)(iii)(A) of E.O. 13224, as amended, for being owned, controlled, or directed by, or to have acted or purported to act for or on behalf of, directly or indirectly, YUNUS MOHAMAD AKBAR, a person whose property and interests in property are blocked pursuant to E.O. 13224, as amended.

Dated: November 7, 2022.
Andrea M. Gacki,
Director, Office of Foreign Assets Control, U.S. Department of the Treasury.

[FR Doc. 2022-24572 Filed 11-9-22; 8:45 am]

BILLING CODE 4810-AL-P